DEPARTMENT OF VETERANS AFFAIRS

[OMB Control No. 2900-0795]

Agency Information Collection Activity: Barriers to Health Care for Women Veterans Survey

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before December 5, 2022.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-0795” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0795” in any correspondence.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority: Public Law 104-13; 44 U.S.C. 3501-3521.

Title: Barriers to Health Care for Women Veterans Survey.

OMB Control Number: 2900-0795.

Type of Review: Reinstatement of a currently approved collection.

Abstract: Legal authority for this data collection is found in Public Law 116-315, Sec. 5402—“Study of Barriers for Women Veterans to Receipt of Health Care from Department of Veterans Affairs,” which requires VA to conduct an independent comprehensive study of the barriers to the provision of health care for women Veterans. Per Sec. 5402, this current study is to build on previous studies “National Survey of Women Veterans in Fiscal Year 2007-2008” and “Study of Barriers for Women Veterans to VA Health Care 2015.” The aim of the proposed survey is to better understand barriers women Veterans face accessing VA care, the comprehensiveness of care, and progress made in reducing barriers to VA healthcare for women Veterans since the previous study conducted in 2015. The data collected will allow VA to plan and provide better health care for women Veterans and to support reports to Congress about the status of women Veterans' health care.

Affected Public: Individuals or households.

Estimated Annual Burden: 5,400 hours.

Estimated Average Burden per Respondent: 45 minutes.

Frequency of Response: One time.

Estimated Number of Respondents: 7,200.

By direction of the Secretary:
Maribel Aponte,
VA PRA Clearance Officer, Office of Enterprise and Integration/Data Governance Analytics, Department of Veterans Affairs.

[FR Doc. 2022-21625 Filed 10-4-22; 8:45 am]

BILLING CODE 8320-01-P